DEPARTMENT OF AGRICULTURE

Office of the Secretary

DEPARTMENT OF THE INTERIOR

Office of the Secretary

Unified Federal Policy for Ensuring a Watershed Approach to Federal Land and Resource Management

AGENCIES: Office of the Secretary, USDA; Office of the Secretary, Interior.

ACTION: Notice of proposed policy; request for public comment.

SUMMARY: The President's Clean Water Action Plan announces the intention of the Departments of Agriculture and the Interior to develop a unified Federal policy on watershed management in consultation with other Federal agencies, States, Tribes, and interested stakeholders. This policy would provide a framework for a watershed approach to Federal land and resource management activities. The proposed policy is the collaborative effort of several Federal agencies and is offered for public review and comment by the Departments of Agriculture and the Interior.

DATES: You should submit comments by April 24, 2000. We will not consider comments postmarked or received by messenger, electronic mail, FAX, or other means after this date in our decisionmaking on this policy. In addition to the request for comments in this notice, we will hold regional meetings in four cities to provide information, answer questions, and solicit written comments. We will provide time for informational meetings with Tribes on the same day as these meetings. We anticipate holding these meetings in the following locations: Denver, CO; Portland, OR; Atlanta, GA; and Milwaukee, WI. We will publish information on meeting locations and dates in a separate Federal Register notice and at www.cleanwater.gov/ufp.

ADDRESSES: You may send or hand deliver written comments to: USDA-Forest Service, Content Analysis Enterprise Team, Attn: UFP, Building 2, Suite 295, 5500 Amelia Earhart Drive, Salt Lake City, UT 84116. You may also fax comments to (801) 517-1021 or submit comments electronically to cleanwater/wo_caet-slc@fs.fed.us. Comments are available for public inspection and copying at the address above during regular business hours (8:00 a.m. to 5:00 p.m., Monday through Friday, except Federal holidays). You are encouraged to call (801) 517-1037 to arrange a time to inspect the comments received. All comments will also be available electronically for public inspection at the close of the comment period at www.cleanwater.gov/ufp.

FOR FURTHER INFORMATION CONTACT: Eric Janes, Rangelands, Soil and Water Group, Bureau of Land Management, Department of the Interior or Karen Solari, Watershed and Air Management Staff, Forest Service, Department of Agriculture, at (801) 517-1037.

SUPPLEMENTARY INFORMATION: The proposed unified Federal policy on watershed management is intended to provide a framework to enhance watershed management for the protection of water quality and the health of aquatic ecosystems on Federal lands and is one of the 111 action items in the President's February 1998 Clean Water Action Plan: Restoring and Protecting America's Waters. In the following question and answer format, we explain the purpose and content of the proposed policy. The full text of the proposed policy is set out at the end of this notice.

About the Proposed Policy

What are the goals and principles of the Unified Federal Policy for Ensuring a Watershed Approach to Federal Land and Resource Management?

We have proposed the following goals and principles for Federal agencies as their programs and resources allow:

• Use a consistent and scientific approach to managing lands and resources and for assessing, protecting, and restoring watersheds.

• Identify specific watersheds in which to focus our budgetary and other resources and accelerate improvements in water quality and watershed condition.

• Use the results of watershed assessments to guide planning and management activities.

• Work closely with States, Tribes, local governments, and stakeholders to implement this policy.

• Meet our Clean Water Act responsibility to adhere to Federal, State, Tribal, interstate, and local water quality requirements to the same extent as non-governmental entities.

• Take steps to ensure that Federal land and resource management actions are consistent with Federal, State, Tribal, and, where appropriate, local government water quality management programs.

What does it mean to take a watershed approach to land and resource management?

A watershed approach focuses efforts to address the highest priority problems within a hydrologically defined geographical area, taking into consideration both ground and surface water flow. As envisioned by the proposed policy, a watershed approach to Federal land and resource management emphasizes the following:

• Assessing the function and condition of watersheds;

• Incorporating watershed goals in Federal agency planning and programs;

• Enhancing pollution prevention;

• Improving monitoring;

• Restoring watersheds;

• Identifying waters of exceptional value; and

• Expanding collaboration among Federal agencies, States, Tribes, and interested stakeholders.

Who prepared the proposed policy?

An interagency team prepared the proposed policy. The team included representatives of more than a dozen Federal bureaus and agencies, especially from the major land management agencies and the science, regulatory, and resource agencies involved in watershed and water quality activities on Federal lands. This proposal is put forth by the Departments of Agriculture and the Interior. Other Federal agencies that are affected have had an opportunity to review and have concurred with this proposal as well.

What discussions occurred with non-Federal agencies?

The Departments of Agriculture and the Interior solicited comments from States and Tribes on a working draft of this policy. We were particularly interested in receiving early feedback from States and Tribes on the following major issues:

• How we can coordinate and better integrate our policy proposals with State and Tribal water quality and watershed programs;

• What the potential impacts of our policy proposals are on State and Tribal water quality and watershed programs; and

• Whether any of these policy proposals would seriously hinder State and Tribal water quality protection and watershed management efforts.

States and Tribes also have the opportunity to submit detailed written comments on the proposed policy during this formal public comment period along with other stakeholders.

What issues did States and Tribes raise after their review of the working draft?

A working draft of the proposed policy was sent to the States and to Federally recognized Tribes for a preliminary review. Although a limited time period was provided for this preliminary review, four Tribes and six State agencies did submit comments. One State agency commented that the increased collaboration and coordination emphasized in the proposed policy would strengthen its existing watershed management initiative.

Many of the comments did highlight the need for additional detail and clarity in the final policy, particularly as it applies to Tribal and ancestral lands. Two organizations representing Tribes suggested a broadening of the science-based approach to watershed assessment by including a body of information and techniques known as Traditional Ecological Knowledge. An Alaskan central Tribal council suggested that the uniqueness of conditions in Alaska needs stronger emphasis. One organization representing a Tribe solicited additional information on the role of the Bureau of Indian Affairs in developing and implementing the policy.

One State agency identified the need to clarify the distinction between priority watersheds and watersheds designated for special protection. The same State agency questioned the impact of the proposed policy's watershed delineation protocols on its existing delineation of watersheds. Another State agency suggested that action on the proposed policy should be suspended until pending litigation on the Clean Water Action Plan is resolved.

We are retaining these preliminary comments from the States and Tribes for further review and consideration in the context of all the comments received during the 60-day public comment period.

What do we mean by consultation with States and Tribes?

Because States and Tribes have overall responsibility for waters under their jurisdiction and are partners with the Federal government in the implementation of the Clean Water Act, their involvement is instrumental to the success of a Federal watershed management policy. Distribution of a working draft of this proposed policy was a first step in obtaining input from the States and Tribes. Discussions with the States and Tribes will continue during the public comment period.

The Federal government must conduct government-to-government consultations with Federally recognized Tribal governments on policies that may impact trust resources. As the policy is implemented, there will be ongoing consultation on the proposed actions at individual watersheds. We are asking for input on the most effective process that would ensure a meaningful consultation process during the public comment period and during the implementation of the policy.

Will the proposed policy affect water rights?

No, nothing in the proposed policy is intended to adjudicate, determine, or otherwise affect water rights. The proposed policy does not affect currently applicable laws, procedures, or regulations creating or determining water rights.

Are all members of the public invited to comment on the policy?

Yes, all members of the public and local watershed councils and groups are invited to comment on the policy and participate in its implementation.

Where This Policy Would Apply

What lands and resources does this policy cover?

This proposed policy would be limited to Federal lands and resources and would apply to lands and resources managed by and under the jurisdiction of the Federal department and agency heads who sign the final policy. Most of these Federal lands and resources are in the western United States, and most are managed by the Forest Service (Department of Agriculture), the Bureau of Land Management (Department of the Interior), and other Department of the Interior agencies. However, significant Federal lands and resources occur throughout the United States that are under the jurisdiction of the Department of Defense; National Park Service, Fish and Wildlife Service, and Bureau of Reclamation (Department of the Interior); and the Forest Service (Department of Agriculture). We estimate that this policy could apply in up to 40 percent of the watersheds in this country because they include Federal lands or resources.

Are non-Federal lands (Tribal, State, private) affected?

The proposed policy would not apply to Tribal, State, or private lands. It would apply only to Federal lands and resources; however, collaboration and partnerships are essential to this effort. The policy is intended to foster more effective participation opportunities for Tribes, States, private landowners, and other interested stakeholders and to support State and Tribal watershed efforts.

Does the Unified Federal Policy affect Federal trust responsibilities to Tribes?

This policy is not intended to alter any trust responsibilities of the Federal government with respect to Federally recognized Tribes.

What Federal agencies are most involved?

Federal land management agencies, especially the Bureau of Land Management (Department of the Interior) and the Forest Service (Department of Agriculture), would be most involved by the policy and its focus on Federal lands and resources. Other agencies with jurisdiction over Federal lands and resources that would adopt this policy are: Department of the Interior agencies (such as the National Park Service, Fish and Wildlife Service, Office of Surface Mining, and the Bureau of Reclamation); Department of Commerce agencies (such as the National Marine Fisheries Service); Department of Defense and Department of Energy agencies that manage land; and the Tennessee Valley Authority.

What other Federal agencies have a role?

This proposed policy also applies to Federal science and regulatory agencies with extensive water resource data and management roles. The U.S. Geological Survey (Department of the Interior) provides data and information necessary for managing watersheds. The Environmental Protection Agency is responsible for interpreting and administering the Clean Water Act and provides guidance and oversight for State and Tribal water quality management under the act. Federal water management agencies, such as the Bureau of Reclamation (Department of the Interior) and the Army Corps of Engineers (Department of the Army), which manage facilities under project specific authorizations, have a role in watershed management efforts as well. The Bureau of Indian Affairs (Department of the Interior) has a role in assisting Federal land and resource management agencies to collaborate with Tribes.

How would the Unified Federal Policy affect current Federal programs?

We propose that this policy be implemented to the extent possible within the existing Federal land and resource management planning programs and resources. The proposed policy would use existing authorities and build on and expand successful efforts by focusing Federal resources on priority watersheds. In several areas, coordinated efforts are already ongoing among the Federal agencies and their State, Tribal, and private partners. In implementing this policy, we would recognize these efforts and existing watershed agreements with States, Tribes, and other entities.

Key Elements of The Proposal

What are the key elements of the Unified Federal Policy as described in the Clean Water Action Plan?

The Clean Water Action Plan says that the policy will address:

• Coordination and planning of Federal programs and resource management activities on a watershed basis to achieve clean water objectives; emphasizing State, Tribal, and Federal priority watersheds, taking into account different Federal, State, and Tribal approaches, programs, and guidelines; and creating “living laboratories” for adaptive management of watersheds and water quality.

• Coordinated development and application of enhanced watershed assessment, hydrologic analysis, resource inventory, and classification; monitoring and evaluation methods; and compatible data standards.

• Control of nonpoint sources of pollution through training in and implementation of best management practices; working with States and Tribes to meet performance goals; and establishing appropriate memorandums of agreement.

• Enhanced watershed restoration efforts, including the integration of watershed restoration as a key part of land management planning and program strategies.

• Development of a process and guidelines for identifying and designating waters or watersheds on Federal lands that may have significant human health, public use, or aquatic ecosystem values and a need for special protection.

• A greater role for citizen stakeholders in completing watershed assessments, monitoring pollution sources, and planning and implementing restoration efforts through collaborative stewardship approaches.

How will the Federal government coordinate its watershed assessments with State and Tribal Unified Watershed Assessments (UWAs) conducted under the Clean Water Action Plan?

We will use the results of both the Federal agency watershed assessments and the State and Tribal assessments to identify priority watersheds for Federal action. The Federal watershed assessments will be at a smaller scale than the UWAs (for example, the watershed size will be in the 50 to 200 square mile range whereas the size of the UWAs is in the 500 to 1,600 square mile range) and will be more detailed (for example, we will analyze the cause of watershed problems and the potential for recovery). We plan to use these assessments to work with the States and Tribes in efforts to protect or improve water quality in watersheds that include Federal lands.

What does designating watersheds for special protection mean?

Throughout the nation, Federal agencies manage all or part of watersheds that may have significant human health, public use, or aquatic ecosystem values and, therefore, may warrant special protection. By identifying these watersheds, Federal land managers can provide that special protection. We intend to designate only those portions of watersheds that are directly managed by Federal agencies.

How does a watershed designated for special protection differ from a priority watershed?

Priority watersheds are those Federal agencies select for focusing resources for the purpose of accelerating improvements in water quality and watershed conditions. A watershed designated for special protection may require restoration work but may also need action to ensure existing water quality and watershed conditions are preserved. The focus is on action to ensure protection of existing conditions for these watersheds.

Other Issues

Are there definitions that will help me understand the proposed policy?

Yes. We propose definitions of such words as “watershed assessment” and “watershed condition” in a separate glossary of terms set out at the end of this notice. These definitions are meant only to help you understand the proposed policy better, and do not change the meanings of terms defined by law or regulation. If we use a definition in this proposed policy that conflicts with current laws or regulations, the current laws or regulations would apply. For example, “best management practices” and “total maximum daily load” are defined in the Environmental Protection Agency's regulations at 40 CFR 122.2 and 40 CFR 130.2(i), respectively. If we define a term in the proposed policy that is not defined elsewhere by law or regulation, you should not consider any such definition to have the effect of a law or regulation.

Who will sign the policy?

The final policy is intended for signature by representatives of the Departments of Agriculture, Commerce, Defense, Energy, and the Interior; the Environmental Protection Agency; the Tennessee Valley Authority; and the Army Corps of Engineers.

May I comment on any aspect of the proposed policy?

Yes, we seek and welcome comments on every aspect of our approach to developing a unified Federal policy to enhance watershed management of Federal lands and resources. In particular, we are interested in your ideas on:

• Whether this proposed policy takes the right approach to coordinating Federal land and resource management activities in a watershed;

• Whether the content of the proposed policy is effective and appropriate;

• How restoration and protection activities on Federal lands can best be coordinated with other activities in high priority watersheds identified by States and Tribes or other regionally applicable programs;

• What the best way is to develop partnerships with others when the Federal agencies begin implementation of this policy;

• What are the most effective processes that would ensure a meaningful Tribal consultation process during the public comment period and during the implementation of the policy; and

• What criteria should be considered in selecting watersheds for the special protection designation.

Will my comments be available to others?

Your comments will be available for public review at the address listed in ADDRESSES above during regular business hours (8:00 a.m. to 5:00 p.m., Monday through Friday, except Federal holidays). At the end of the comment period, we will also post all comments at www.cleanwater.gov/ufp. Our practice is to make comments, including names and business or home addresses of respondents, available for public review during regular business hours. If you wish us to withhold your name and/or address, you must state this prominently at the beginning of your written comment and provide the reason that you believe the Freedom of Information Act would allow us to withhold that information from the record. We will honor that request to the extent allowable by law. However, we will not consider anonymous comments, and we will make all submissions from organizations or businesses, and from individuals identifying themselves as representatives or officials of organizations or businesses, available for public inspection in their entirety.

For the Department of Agriculture.
February 14, 2000.
James R. Lyons,
Under Secretary, NRE.
For the Department of the Interior.
February 11, 2000.
Sylvia V. Baca,
Acting Assistant Secretary, Land and Minerals Management.

Proposed Unified Federal Policy For Ensuring a Watershed Approach to Federal Land and Resource Management

Introduction

The goal of the Clean Water Action Plan is to accelerate the progress this Nation has made in improving the quality of its waters since the passage of the Federal Water Pollution Control Act of 1972, as amended (commonly referred to as the Clean Water Act). Federal agencies manage large amounts of public lands throughout the country. In the interest of protecting water quality, the Clean Water Action Plan announced the intention of Federal agencies to adopt a policy that will reduce water pollution from Federal activities and foster a unified, watershed-based approach to land and resource management. Implementation of the following proposed policy will improve water quality and aquatic ecosystems on Federal lands and will further the use of a watershed approach to Federal land and resource management activities.

I. Policy Goals

We, the Federal agencies who have signed this policy, are committed to managing the Federal lands, resources, and facilities in our care as models of good stewardship and effective watershed management.

We recognize that existing programs for watershed protection and improvement are currently underway and are producing positive results. This policy will enhance these programs by improving consistency among Federal agency programs. We recognize that those agencies without established programs will face an additional challenge to implement this policy and that the pace and level of implementation will vary by agency. We seek to build on current efforts to achieve consistency.

The following policy has two goals: use a watershed approach to prevent and reduce water pollution resulting from Federal land and resource management activities; and accomplish this in a unified and cost-effective manner.

To develop a unified Federal policy that meets these two goals, we incorporated the following guiding principles:

A. Use a consistent and scientific approach to managing Federal lands and resources and to assess, protect, and restore watersheds.

B. Identify specific watersheds in which to focus our budgetary and other resources and accelerate improvements in water quality and watershed condition.

C. Use the results of watershed assessments to guide planning and management activities in accordance with applicable authorities and procedures.

D. Work closely with States, Tribes, local governments, and stakeholders to implement this policy.

E. Meet our Clean Water Act responsibility to adhere to Federal, State, Tribal, interstate, and local water quality requirements to the same extent as non-governmental entities.

F. Take steps to ensure that Federal land and resource management actions are consistent with Federal, State, Tribal, and, where appropriate, local government water quality management programs.

II. Agency Objectives

To accomplish these policy goals, we propose to use available resources and authorities to pursue the following objectives. All agencies will implement this policy as individual agency laws, missions, and fiscal and budgetary authorities and resources permit.

A. We will develop a common science-based approach to watershed assessment for Federal lands.

1. We will develop consistent procedures for delineating, assessing, and classifying watersheds.

a. We will work together to define and implement interagency guidelines for the delineation of watershed and sub-watershed hydrologic unit boundaries.

b. Building on current efforts, we will develop and test watershed assessment procedures in watersheds that have been delineated using the interagency guidelines.

c. Watershed assessments will determine existing and potential conditions of watersheds that involve Federal lands and resources. We will provide the results of these assessments to States and Tribes for their use in refining their Unified Watershed Assessments.

d. We will develop a framework for classifying the condition of watersheds with significant Federal lands and resources.

2. We will conduct watershed assessments for watersheds that have significant Federal lands and resources.

a. Using cooperatively developed procedures and recognizing current agreements, we will assess the effect of our current and past actions on the condition of watersheds with significant Federal lands and resources in cooperation with States, Tribes, local governments, and interested stakeholders.

b. Before conducting assessments, we will develop schedules for assessments in priority watersheds and identify needed resources to assess all identified watersheds.

c. We will conduct assessments in priority watersheds on a 10-year cycle, unless a different cycle better demonstrates changes in a particular watershed's condition over time. We will conduct assessments in other watersheds on a planned, periodic cycle.

d. We will use watershed assessments, where available, to protect Federal lands and resources, to improve management, and to assist State, Tribal, and local government protection and restoration efforts in watersheds designated as priorities by State and Tribal Unified Watershed Assessments.

B. We will use a watershed management approach when protecting and restoring watersheds.

1. We will work collaboratively to identify priority watersheds.

a. We will work with States, Tribes, local governments, and interested stakeholders to identify specific watersheds with significant Federal lands and resources as priorities for protection, management, and improvement.

b. We will identify priority watersheds based on factors that include:

(1) The percentage of the watershed under Federal management;

(2) Issues the Federal agencies identify, including possible adverse effects on water quality;

(3) Magnitude of water quality impairment, impacts to aquatic resources, and/or changes to flow regime;

(4) State and Tribal Unified Watershed Assessments;

(5) Vulnerability of the watershed to degradation; and

(6) The extent of public interest.

2. We will develop a process and guidelines for identifying and designating waters or watersheds on Federal lands that may have significant human health, public use, or aquatic ecosystem values and a need for special protection.

3. We will implement pollution prevention and controls, consistent with applicable legal authorities.

a. We will address nonpoint and point source pollution from Federal land management activities, protect or improve water quality, and meet applicable State and Tribal water quality requirements under the Clean Water Act.

b. We will work with States, Tribes, and, as appropriate, local governments to address nonpoint sources of pollution by:

(1) Identifying best management practices (BMPs) and management strategies that meet Federal, State, and Tribal water quality requirements;

(2) Adjusting BMPs when monitoring reveals that they do not adequately protect water quality; and

(3) Mitigating impacts when implementation of BMPs results in unexpected adverse water quality impacts.

4. We will improve watershed conditions through restoration and adaptive management. We will work with States, Tribes, local governments, and interested stakeholders to improve the condition of priority watersheds. Changes in management strategies and restoration efforts will focus on watersheds where Federal land and resource management activities can meaningfully influence water quality and aquatic resources.

5. We will base watershed management on good science. We will use good scientific information from research and management experience in designing and implementing watershed planning and management programs, and setting management goals (e.g., desired conditions). To expand current knowledge, we will collaborate to identify research needs and contribute to or sponsor research, as appropriate.

6. We will identify and incorporate watershed management goals into our planning, programs, and actions. We will periodically review and amend, as appropriate, policies and management plans for Federal lands and resources to meet goals for watershed protection and improvement. We will incorporate adaptive management principles into our programs. Our watershed goals will seek to minimize adverse water quality impacts due to ongoing and future management programs, minimize impairment of current or future uses, and restore watersheds where State and Tribal water quality requirements under the Clean Water Act are not achieved.

7. We will help States and Tribes develop science-based total maximum daily loads (TMDLs). We will develop a coordinated approach for assisting and supporting State and Tribal efforts to develop and implement TMDLs in watersheds with significant Federal land and resource management activities. We will provide technical assistance, tools, and expertise. We will use TMDL results in watershed planning and subsequent resource management activities to meet applicable State and Tribal water quality requirements under the Clean Water Act.

C. We will improve our compliance with water quality requirements under the Clean Water Act.

1. We will review agency policies to improve compliance with water quality requirements. We will identify and review our rules, policies, and procedures that affect water quality or watershed condition for compliance under the Clean Water Act with applicable Federal, State, Tribal, interstate, and local requirements for preventing and controlling water pollution.

2. We will integrate water quality standards and watershed management goals. We will work collaboratively to clarify relationships under the Clean Water Act among BMPs, TMDLs, and State and Tribal water quality standards to achieve the following goals:

a. Better coordination of watershed goals and objectives;

b. Better sharing of scientific and technical resources;

c. Water quality standards that better account for nonpoint source pollution;

d. Better implementation mechanisms for meeting standards under the Clean Water Act, including practical interim measures where standards are not immediately achievable; and

e. Consistent treatment of Federal and non-Federal entities as required by the Clean Water Act.

3. We will review our policies and processes that may affect land and water uses and water quality. In cooperation with States and Tribes, we will review our policies and processes for land and water uses that may affect water quality and watershed condition. We will consider revising these policies or processes, as appropriate, to ensure that they address watershed protection, improvement, monitoring, and water quality compliance.

D. We will enhance collaboration.

1. We will improve cooperation among Federal agencies. We will develop a common framework for addressing water quality and aquatic ecosystem issues for watersheds at the national, regional, State, and Tribal levels.

2. We will improve cooperation with States, Tribes, and local governments. We will develop formal agreements as appropriate with States, Tribes, and local governments to clarify responsibilities for watershed management. These agreements will seek a watershed-based approach for preventing or reducing pollution from point and nonpoint sources.

3. We will expand opportunities for participation by interested stakeholders. We will seek participation by interested stakeholders in watershed planning and management decisions using available mechanisms in existing planning processes. We will:

a. Identify specific opportunities for review and comment by interested stakeholders during Federal land and watershed planning efforts;

b. Provide opportunities for interested stakeholders to participate in monitoring and assessing watershed conditions and in implementing watershed restoration projects; and

c. Seek early feedback on key decisions affecting watershed management through the Watershed Forum process called for in the Clean Water Action Plan and carefully consider this feedback in agency decision making.

4. We will expand opportunities for dialogue with private landholders. In priority watersheds with a mix of Federal and private lands, we will work with private sector landholders to involve them in the watershed management process. We will work closely to ensure that Federally funded projects involving private cost-share partners fully consider watershed management objectives for both public and private lands.

5. We will coordinate monitoring. We will develop and implement a coordinated monitoring and evaluation approach and will monitor water quality trends and our management activities to determine whether progress is being made in protecting and improving water quality.

6. We will share training, information, and resources. To promote collaboration and consistency in watershed management practices, Federal agencies will continue, expand, develop, implement, and make available joint training programs; share information and resources; transfer technologies for watershed management; and develop a common way to organize and present information and make it more accessible.

This policy does not create any right or benefit, or trust responsibility, substantive or procedural, enforceable by a party against the United States, its agencies or instrumentalities, its officers or employees, or any other person. This policy does not alter or amend any requirement under statute, regulation, Executive Order, or OMB or EPA guidance.

Department of Agriculture

Department of Commerce

Department of Defense

Department of Energy

Department of the Interior

Environmental Protection Agency

Tennessee Valley Authority

Army Corps of Engineers

Glossary of Terms

These definitions are intended only to help you understand the proposed policy better, and do not change the meanings of terms defined by law or regulation. If we define a term in the proposed policy that is not defined elsewhere by law or regulation, you should not consider any such definition to have the effect of a law or regulation. Also, if we use a definition in this proposed policy that is subsequently found to conflict with current laws or regulations, the current laws or regulations would apply. For example, “best management practices” and “total maximum daily load” are defined in the Environmental Protection Agency's regulations at 40 CFR 122.2 and 40 CFR 130.2(i), respectively.

Adaptive management: A type of natural resource management in which decisions are made as part of an ongoing science-based process. Adaptive management involves testing, monitoring, and evaluating applied strategies, and incorporating new knowledge into management approaches that are based on scientific findings and the needs of society. Results are used to modify management policy, strategies, and practices.

Best management practices (BMPs): Methods, measures, or practices to prevent or reduce water pollution, including, but not limited to:

1. Structural and nonstructural controls,

2. Operation and maintenance procedures, and

3. Other requirements and scheduling and distribution of activities.

Usually BMPs are applied as a system of practices rather than a single practice. BMPs are selected on the basis of site-specific conditions that reflect natural background conditions and political, social, economic, and technical feasibility.

Hydrologic unit: Watersheds which are classified into four types of units: regions, sub-regions, accounting units, and cataloging units. The hydrologic units are arranged within each other, from the smallest (cataloging units) to the largest (regions). Each hydrologic unit is identified by a unique hydrologic unit code (HUC) consisting of two to eight digits based on the four levels of classification in the hydrologic unit system.

Priority watersheds: Watersheds selected for the focussing of Federal budgetary and other resources for the purpose of accelerating improvements in water quality and watershed condition.

Total maximum daily load: An estimate of the total quantity of pollutants (from all sources—point, nonpoint, and natural) that may be allowed into waters without exceeding applicable water quality criteria.

Unified Watershed Assessment: The Clean Water Action Plan asked States and Tribes to assess their watersheds and identify all watersheds as being in one of four categories:

1. Not meeting, or facing an imminent threat of not meeting, clean water or other natural resource goals;

2. Meeting goals but needing action to sustain water quality;

3. Having pristine/sensitive aquatic system conditions on Federal, State, or Tribal lands; or

4. Needing more information to assess watershed condition.

Watershed: A geographic area of land, water, and biota within the confines of a drainage divide. The total area above a given point of a water body that contributes flow to that point.

Watershed approach: A framework that focuses public and private sector efforts to address the highest priority problems within a hydrologically defined geographical area, taking into consideration both ground and surface water flow.

Watershed assessment: An analysis and interpretation of the physical and landscape characteristics of a watershed using scientific principles to describe watershed conditions as they affect water quality and aquatic resources. Initial watershed assessments will be conducted using existing data, where available. Data gaps may suggest the collection of additional data.

Watershed condition: The state of the watershed based on physical characteristics and processes (e.g., hydrologic, geomorphic, landscape, topographic, vegetative cover, and aquatic habitat), water flow characteristics and processes (e.g., volume and timing), and water quality characteristics and processes (e.g., chemical, physical, and biological), as it affects water quality and water resources.

[FR Doc. 00-4113 Filed 2-18-00; 8:45 am]

BILLING CODE 3410-11-P